DEPARTMENT OF AGRICULTURE

Forest Service

Grand Mesa, Uncompahgre and Gunnison National Forests; Delta, Garfield, Gunnison, Hinsdale, Mesa, Montrose, Ouray, Saguache and San Miguel Counties; Colorado; Assessment Report of Ecological, Social and Economic Conditions, Trends and Sustainability for the Grand Mesa, Uncompahgre and Gunnison National Forests

AGENCY: Forest Service, USDA.

ACTION: Notice of initiating the assessment phase of the land management plan revision for the Grand Mesa, Uncompahgre and Gunnison National Forests.

SUMMARY: The Grand Mesa, Uncompahgre and Gunnison National Forests (GMUG), located on the western slope of the Colorado Rockies, are initiating the forest planning process pursuant to the 2012 National Forest System Land Management Planning rule. This process will result in a revised and updated Natural Resource Land Management Plan, often referred to as the Forest Plan, which will guide all management activities on the GMUG for the next fifteen years. The current GMUG Forest Plan was completed in 1983, and was subsequently amended in 1991, 1993, 2005, 2007, and 2009. Previous efforts to revise the Forest Plan, including an eight-year effort involving extensive public participation and the development of comprehensive assessments, a need for change report, and a proposed plan were shelved due to the overturning of the 2008 planning rule. Now that the national 2012 Planning Rule has been established, the GMUG will reinitiate the plan revision process.

The plan revision process encompasses three stages: Assessment, plan revision, and monitoring. This notice announces the initiation of the assessment phase, the first stage of the plan revision process, which involves assessing ecological, social and economic conditions and trends in the planning area and documenting the findings in an Assessment report. For the first phase, the GMUG has posted helpful resources, including the current Forest Plan and subsequent amendments, information from the 2006 and 2007 revision efforts, and the Citizen's Guide to National Forest Planning, on the GMUG Forest Plan Web site listed below.

During this assessment phase, the GMUG invites other government agencies, non-governmental parties, and the public to share material about existing and changed conditions, trends, and perceptions of social, economic and ecological systems. The GMUG will host a variety of public outreach forums in summer and fall of 2017 to facilitate this effort, and the public is encouraged to participate and provide meaningful contributions. The GMUG is seeking local knowledge of social values, available data resources, areas of use and activities, goods and services produced by lands within the GMUG, and relevant material that will help inform desired conditions, standards and guidelines, land suitability determinations, and other plan components. This information will help identify gaps in the current management plan and inform the need for change, highlighting priority issues that should be addressed in this revision. Public participation and collaboration are essential steps to understanding current conditions, available data, and feedback needed to support a strategic, efficient and effective revision process.

Several guiding principles, developed to overcome stakeholder-identified challenges, will drive public engagement throughout the plan revision process. These guiding principles include providing direct and transparent communication through a variety of methods, maintaining focused public involvement, building relationships, and promoting sharing, learning and understanding between the agency and the public. These guiding principles will help the GMUG ensure that public engagement in the current assessment phase and throughout the plan revision process will be functional, accessible, and representative.

DATES: In summer and fall of 2017, the public is invited to engage in the assessment phase of the revision process, for which public engagement opportunities will be posted on the GMUG Forest Plan Web site located at: www.fs.usda.gov/main/gmug/landmanagement/planning. Information will also be sent out to the Forests' mailing list. If anyone is interested in being included in these notifications, please send an email to gmugforestplan@fs.fed.us. The assessment report for the Grand Mesa, Uncompahgre and Gunnison (GMUG) National Forests is expected to be completed by January 2018 and will be posted on the GMUG Forest Plan Web site listed above. The GMUG will then initiate procedures pursuant to the National Environmental Policy Act (NEPA) and prepare and evaluate a revised Forest Plan.

ADDRESSES: Send written comments to Grand Mesa, Uncompahgre, and Gunnison National Forests, Attn: Plan Revision, 2250 HWY 50, Delta CO, 81416. Written comments may also be sent via email to gmugforestplan@fs.fed.us, or via facsimile to 970-874-6698. All correspondence, including names and addresses when provided, will be placed in the record and will be available for public inspection and copying.

FOR FURTHER INFORMATION CONTACT: Clay Speas, Acting Renewable Resources Planning Staff Officer, 970-874-6677, cspeas@fs.fed.us. Individuals who use telecommunication devices for the deaf (TDD) may call the Federal Information Relay Service (FIRS) at 1-800-877-8339 between 8 a.m. and 8 p.m., Eastern Time, Monday through Friday.

SUPPLEMENTARY INFORMATION: The National Forest Management Act (NFMA) of 1976 requires that every National Forest System (NFS) unit develop a land management plan, often called a Forest Plan. On April 9th, 2012, the Forest Service finalized its land management planning rule, referred to as the 2012 Planning Rule, which describes requirements for the planning process and provides programmatic direction to National Forests and National Grasslands for developing and implementing their forest plans. Forest plans describe the strategic direction for management of forest resources, and are adaptive and amendable as conditions change over time, in order to remain relevant for their intended application period of 10-15 years.

Similar to the 2008 Planning Rule, the 2012 Planning Rule requires the forests to outline desired conditions for each management area, specify objectives to achieve those conditions, and engage the public extensively throughout the plan revision process. However, the 2012 Planning Rule diverges from previous iterations in several guiding concepts and substantive components, particularly in relying on the concept of ecological integrity to frame plan assessment, develop plan components, and fulfill monitoring requirements. Based on current estimates, it is expected to take four years to produce a revised Forest Plan.

Pursuant to the 2012 Planning Rule (CFR part 219), the revision process encompasses three stages: Assessment, plan revision and monitoring.

Assessment—This notice announces the start of the first stage of the process, during which updated information from the public, other federal agencies, and non-governmental parties, as well as still applicable data from the previous revision effort will be compiled in an assessment report. Information relevant to the assessment report may include the current, changed, and changing status of ecological, social and economic conditions within the planning area and their interconnected relationships within the context of the broader landscape. The development of the assessment includes opportunities for the public to contribute information and engage in the planning process and build a common understanding prior to entering formal plan revision. Information gathered will be documented in assessment reports that form the basis for the need for change document, which identifies changes to be included in the new plan to provide management direction adaptable enough to address changing environmental, social and economic conditions.

Plan Revision—Using the need for change as a foundation, the GMUG, in coordination with partners and the public, will then begin the plan revision phase of the process. During this phase, a vision statement will be developed that will lead the forests into the future, specifying desired conditions and objectives to help achieve these goals. In compliance with the NEPA, this phase will include the development of alternatives, a proposed action, an environmental impact statement (EIS), and eventually a revised Forest Plan, with announced opportunities for public review and comment. Once the Forest Plan is finalized, all projects and actions that will be implemented on the ground must be in compliance with the Forest Plan.

Monitoring—As part of the plan revision, the public will assist the Forest Service in developing a monitoring program, which will be carried out after the revised plan is approved and will continue throughout the life of the plan. The monitoring program should be designed to help evaluate progress towards meeting the desired conditions and objectives established by the Forest Plan, and may include monitoring questions that address the status of watershed conditions, visitor use and satisfaction, effects of management activities, and more. Monitoring efforts should be within the financial and technical capability of the agency and will help the Forest Service and the public evaluate the effectiveness of the Forest Plan by providing feedback and helping determine whether a change in the plan is necessary.

To identify as much relevant information as possible, the GMUG is encouraging contributors to share their concerns and perceptions of the conditions and trends in social, economic and environmental systems within the GMUG planning area. Meetings, review and comment periods, and other opportunities for public engagement throughout the plan revision process will be publicized, with announcements posted on the Forests' planning Web site at www.fs.usda.gov/main/gmug/landmanagement/planning. Information will also be sent out to the Forests' mailing list. If anyone is interested in being included in these notifications, please send an email to gmugforestplan@fs.fed.us.

Responsible Official

The responsible official for the revision of the land management plan for the Grand Mesa, Uncompahgre and Gunnison National Forests is Scott Armentrout, Forest Supervisor, Grand Mesa, Uncompahgre and Gunnison National Forests, 2250 HWY 50, Delta, CO 81416.

Dated: April 13, 2017.
Glenn P. Casamassa,
Associate Deputy Chief, National Forest System.

[FR Doc. 2017-11482 Filed 6-2-17; 8:45 am]

BILLING CODE 3411-15-P